DEPARTMENT OF COMMERCE

International Trade Administration

[C-570-054]

Certain Aluminum Foil From the People's Republic of China: Postponement of Preliminary Determination of Countervailing Duty Investigation

AGENCY: Enforcement and Compliance, International Trade Administration, Department of Commerce.

DATES: Effective May 17, 2017.

FOR FURTHER INFORMATION CONTACT: Emily Maloof at (202) 482-5649, AD/CVD Operations, Enforcement and Compliance, International Trade Administration, U.S. Department of Commerce, 1401 Constitution Avenue NW., Washington, DC 20230.

SUPPLEMENTARY INFORMATION:

Background

On March 28, 2017, the Department of Commerce (Department) initiated a countervailing duty investigation (CVD) on certain aluminum foil from the People's Republic of China.¹ Currently, the preliminary determination of this investigation is due no later than June 1, 2017.

¹ See Certain Aluminum Foil from the People's Republic of China: Initiation of Countervailing Duty Investigation, 82 FR 15688 (March 30, 2017).

Postponement of Preliminary Determination

Section 703(b)(1) of the Tariff Act of 1930, as amended (the Act), requires the Department to issue the preliminary determination in a CVD investigation within 65 days after the date on which the Department initiated the investigation. However, if the petitioner makes a timely request for a postponement, section 703(c)(1)(A) of the Act allows the Department to postpone making the preliminary determination until no later than 130 days after the date on which the Department initiated the investigation.

On May 4, 2017, the petitioners ² submitted a timely request pursuant to section 703(c)(1)(A) of the Act and 19 CFR 351.205(e) to postpone the preliminary determination.³ For the reasons stated above and because there are no compelling reasons to deny the request, the Department, in accordance with section 703(c)(1)(A) of the Act, is postponing the deadline for the preliminary determination to no later than 130 days after the day on which the investigation was initiated. Accordingly, the Department will issue the preliminary determination no later than August 5, 2017. However, because August 5, 2017, falls on a Saturday, the preliminary determination is now due no later than August 7, 2017.⁴ In accordance with section 705(a)(1) of the Act and 19 CFR 351.210(b)(1), the deadline for the final determination of this investigation will continue to be 75 days after the date of the preliminary determination, unless postponed at a later date.

² The Aluminum Association Trade Enforcement Working Group and its individual members (collectively, the petitioners).

³ See letter from the petitioners entitled “Certain Aluminum Foil from the People's Republic of China—Petitioners' Request to Postpone Preliminary Determination,” dated May 4, 2017.

⁴ See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: May 11, 2017.
Ronald K. Lorentzen,
Acting Assistant Secretary for Enforcement and Compliance.

[FR Doc. 2017-09975 Filed 5-16-17; 8:45 am]

BILLING CODE 3510-DS-P